SECURITIES AND EXCHANGE COMMISSION

[File No. 500-1]

In the Matter of Gepco, Ltd.; Order of Suspension of Trading

September 18, 2014

It appears to the Securities and Exchange Commission (“Commission”) that there is a lack of accurate information concerning, and potentially manipulative transactions in, the securities of Gepco, Ltd. (“Gepco”). Gepco is a Nevada corporation with its principal place of business located in Santee, California. Its stock is quoted on OTC Link, operated by OTC Markets Group Inc., under the ticker: GEPC. The Commission is of the opinion that the public interest and the protection of investors require a suspension of trading in the securities of Gepco.

Therefore, it is ordered, pursuant to Section 12(k) of the Securities Exchange Act of 1934, that trading in the securities of the above-listed company is suspended for the period from 9:30 a.m. EDT on September 18, 2014, through 11:59 p.m. EDT on October 1, 2014.

By the Commission.
Kevin M. O'Neill,
Deputy Secretary.

[FR Doc. 2014-22567 Filed 9-18-14; 4:15 pm]

BILLING CODE 8011-01-P